DEPARTMENT OF ENERGY

Office of Energy Efficiency and Renewable Energy

[Docket No. EERE-2014-BT-NOA-0016]

Physical Characterization of Grid-Connected Commercial and Residential Buildings End-Use Equipment and Appliances

AGENCY: Office of Energy Efficiency and Renewable Energy, Department of Energy.

ACTION: Notice of final document.

SUMMARY: The U.S. Department of Energy (DOE) is announcing the final publication of a document entitled A Framework for Characterizing Connected Buildings Equipment. A copy of the Framework document is available at: http://www.regulations.gov/#!documentDetail;D=EERE-2014-BT-NOA-0016-0047.

ADDRESSES: The docket, which includes Federal Register notices, public comments, and other supporting documents/materials, is available for review at regulations.gov. All documents in the docket are listed in the regulations.gov index.

The docket for this document can be found at: http://www.regulations.gov/#!docketDetail;D=EERE-2014-BT-NOA-0016. The regulations.gov Web page will contain simple instructions on how to access all documents, including public comments, in the docket.

FOR FURTHER INFORMATION CONTACT: Mr. Joseph Hagerman, U.S. Department of Energy, Building Technologies Office (EE-5B), 950 L'Enfant Plaza SW., Washington, DC 20024. Phone: (202) 586-4549. Email: joseph.hagerman@ee.doe.gov.

For legal issues, please contact Kavita Vaidyanathan; U.S. Department of Energy, Office of the General Counsel, 1000 Independence Avenue SW., GC-33, Washington, DC 20585; (202) 586-0669; Kavita.Vaidyanathan@hq.doe.gov.

SUPPLEMENTARY INFORMATION: On June 5, 2014, the U.S. Department of Energy (DOE) published a request for comment and notice of a public meeting in the Federal Register (79 FR 32542) regarding a draft framework for the physical characterization of grid-connected commercial and residential buildings end-use equipment and appliances. The public meeting was held on July 11, 2014 in Washington, DC, where the structure and content for the draft Framework Document were presented and discussed. At that meeting, DOE announced that it would make the Framework Document available for public comment. On August 14, 2014, DOE announced the availability of this Framework Document in the Federal Register (79 FR 47633).

That Document, which proposed a draft plan for development of characterization protocols for connected buildings end-use appliances and equipment, received public comment and DOE subsequently revised the document in response to comments. A copy of the final Framework Document is available at: http://www.regulations.gov/#!documentDetail;D=EERE-2014-BT-NOA-0016-0047.

Issued in Washington, DC, on April 9, 2015.
Kathleen B. Hogan,
Deputy Assistant Secretary for Energy Efficiency, Energy Efficiency and Renewable Energy.

[FR Doc. 2015-09348 Filed 4-21-15; 8:45 am]

BILLING CODE 6450-01-P